ENVIRONMENTAL PROTECTION AGENCY

40 CFR Part 52

[EPA-R09-OAR-2007-0122; FRL-9107-7]

Withdrawal of Proposed Rule Revising the California State Implementation Plan, San Joaquin Valley Unified Air Pollution Control District

AGENCY: Environmental Protection Agency (EPA).

ACTION: Withdrawal of proposed rule.

SUMMARY: On February 20, 2008 (73 FR 9260), EPA published a rule proposing to correct EPA's May 2004 final approval of revisions to the San Joaquin Valley Unified Air Pollution Control District portion of the California State Implementation Plan (SIP) and to approve revisions to certain District rules. EPA's proposed correction, and proposed approval of District rules submitted in December 2006, would conform the SIP to a State law generally known as Senate Bill 700 by explicitly exempting certain minor agricultural sources from new source review permitting requirements and by limiting the applicability of offset requirements for all minor agricultural sources consistent with criteria identified in state law. EPA is withdrawing this previously published proposed rule, and in this Federal Register, EPA is publishing a proposed rule that replaces the February 20, 2008 proposed rule.

DATES: The proposed rule published on February 20, 2008 (73 FR 9260) is withdrawn as of January 29, 2010.

FOR FURTHER INFORMATION CONTACT: Laura Yannayon, Permits Office (AIR-3), U.S. Environmental Protection Agency, Region IX, (415) 972-3534, yannayon.laura@epa.gov.

SUPPLEMENTARY INFORMATION: Throughout this document, “we,” “us” and “our” refer to EPA.

On February 20, 2008 (73 FR 9260), EPA proposed to correct our May 2004 final approval of revisions to the San Joaquin Valley Unified Air Pollution Control District (“District”) portion of the California State Implementation Plan (“SIP”). EPA also proposed to approve revisions to two District rules submitted to EPA by the California Air Resources Board (CARB) on December 29, 2006. The subject rules included District Rule 2020 and District Rule 2201 (paragraph 4.6.9 only). The proposed correction and proposed approval that were the subject of our February 20, 2008 proposed rule relate to review and permitting of new or modified stationary sources (“NSR”) specifically in connection with agricultural sources. EPA received substantive comments on the February 2008 proposed rule, and, since publication of the February 2008 proposed rule, the District has adopted revisions to Rules 2020 and 2201, and CARB has submitted the amended rules in their entirety to EPA as revisions to the California SIP. In light of the comments on our February 2008 proposed rule, and the more recent submittals of District Rules 2020 and 2201, we have decided to withdraw the rule proposed on February 20, 2008, and in this Federal Register, EPA is publishing a new proposed rule. The rule being proposed in this Federal Register replaces the following rule published on February 20, 2008:

Title: Revisions to the California State Implementation Plan, San Joaquin Valley Unified Air Pollution Control District (Proposed rule, 73 FR 9260, EPA-R09-OAR-2007-0122).

List of Subjects in 40 CFR Part 52

Environmental protection, Air pollution control, Intergovernmental relations, Ozone, Particulate matter, Reporting and recordkeeping requirements.

Dated: January 21, 2010.
Jared Blumenfeld,
Regional Administrator, Region IX.

[FR Doc. 2010-1840 Filed 1-28-10; 8:45 am]

BILLING CODE 6560-50-P